DEPARTMENT OF TRANSPORTATION

Federal Aviation Administration

14 CFR Part 97

[Docket No. 30057; Amdt. No. 1993]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matters incorporated by reference in the amendment is as follows:

For Examination

1. FAA Rules Docket, FAA Headquarters Building, 800 Independence Avenue, SW., Washington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require taking them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC, on May 26, 2000.
L. Nicholas Lacey,
Director, Flight Standards Service.

Adoption of the Amendment

Accordingly, pursuant to the authority delegated to me, part 97 of the Federal Aviation Regulations (14 CFR part 97) is amended by establishing, amendment, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective August 10, 2000

Glendale, AZ, Glendale Muni, RNAV RWY 19, Orig

Ocala, FL, Ocala Regional/Jim Taylor Field, VOR RWY 36, Amdt 17

Ocala, FL, Ocala Regional/Jim Taylor Field, NDB RWY 36, Amdt 5

Eastman, GA, Heart of Georgia Regional, VOR/DME OR GPS-A, Amdt 6

Ames, IA, Ames Muni, RNAV RWY 1, Orig

Hampton, IA, Hampton Muni, RNAV RWY 17, Orig

Hampton, IA, Hampton Muni, RNAV RWY 35, Orig

Newton, IA, Newton Muni, VOR RWY 32, Amdt 9A

Alexandria, LA, Alexandria Intl, ILS/DME RWY 14, Amdt 1, CANCELLED

Alexandria, LA, Alexandria Intl, ILS RWY 14 Orig

Leonardtown, MD, St. Mary's County, VOR RWY 11, Amdt 4, CANCELLED

Kansas City, MO, Kansas City Intl, NDB RWY 19L, Orig-A

St. Louis, MO, Spirit of St. Louis, NDB RWY 8R, Amdt 11B

St. Louis, MO, Spirit of St. Louis, NDB OR GPS RWY 26L, Amdt 2A

Kimball, NE, Kimball Muni/Robert E. Arraj Field, GPS RWY 28, Orig-A

Lexington, NE, Lexington/Jim Kelly Field, GPS RWY 32, Orig-A

Lincoln, NE, Lincoln Muni, VOR OR GPS RWY 17R, Amdt 11B

Lincoln, NE, Lincoln Muni, NDB OR GPS RWY 35L, Amdt 8B

North Platte, NE, North Platte Regional Airport/Lee Bird Field, VOR OR GPS RWY 35, Amdt 17B

North Platte, NE, North Platte Regional Airport/Lee Bird Field, NDB OR GPS RWY 30, Amdt 3B

Omaha, NE, Eppley Airfield, NDB RWY 32L, Amdt 1A

Scottsbluff, NE, Western Nebraska Regional/William B. Heilig Field, VOR/DME OR GPS RWY 5, Amdt 4A

Scottsbluff, NE, Western Nebraska Regional/William B. Heilig Field, VOR OR TACAN OR GPS RWY 23, Amdt 11A

Scottsbluff, NE, Western Nebraska Regional/William B. Heilig Field, LOC BC RWY 12, Amdt 8A

Scottsbluff, NE, Western Nebraska Regional/William B. Heilig Field, NDB OR GPS RWY 12, Amdt 8A

Hobbs, NM, Lea County (Hobbs), VOR OR TACAN RWY 3, Amdt 20A

Hobbs, NM, Lea County (Hobbs), VOR/DME OR TACAN RWY 21, Amdt 8A

Hobbs, NM, Lea County (Hobbs), LOC/DME BC RWY 21, Amdt 5B

Oklahoma City, OK, Sundance Airpark, VOR RWY 17, Amdt 1

Oklahoma City, OK, Will Rogers World, VOR RWY 17L, Amdt 2

Baytown, TX, RWJ Airpark, RNAV RWY 26, Orig

Brownwood, TX, Brownwood Regional, RNAV RWY 17, Orig

Brownwood, TX, Brownwood Regional, RNAV RWY 35, Orig

Fort Worth, TX, Fort Worth Alliance, ILS RWY 16L, Amdt 5

Fort Worth, TX, Fort Worth Alliance, ILS RWY 34R, Amdt 4

Fort Worth, TX, Fort Worth Alliance, RNAV RWY 16L, Orig

Fort Worth, TX, Fort Worth Alliance, RNAV RWY 34R, Orig

Fort Worth, TX, Fort Worth Alliance, GPS RWY 16L, Orig-B, CANCELLED

Fort Worth, TX, Fort Worth Alliance, GPS RWY 34R, Orig-B, CANCELLED

Killeen, TX, Killeen Muni, NDB OR GPS RWY 1, Amdt 5B

McAllen, TX, McAllen Miller Intl, VOR RWY 13, Amdt 15A

McAllen, TX, McAllen Miller Intl, NDB RWY 13, Amdt 6A

San Antonio, TX, San Antonio Intl, NDB RWY 12R, Amdt 20C

San Antonio, TX, San Antonio Intl, NDB RWY 30L, Amdt 11B

Elkins, WV, Elkins-Randolph County-Jennings Randolph Field, NDB-A, Orig, CANCELLED

Green Bay, WI, Austin Straubel Intl, VOR OR GPS RWY 12, Amdt 18, CANCELLED

Green Bay, WI, Austin Straubel Intl, VOR-A, Orig

Green Bay, WI, Austin Straubel Intl, VOR/DME OR TACAN RWY 36, Amdt 8

Green Bay, WI, Austin Straubel Intl, NDB RWY 6, Amdt 17

Green Bay, WI, Austin Straubel Intl, ILS RWY 36, Amdt 7

Green Bay, WI, Austin Straubel Intl, RADAR-1, Amdt 9

Green Bay, WI, Austin Straubel Intl, RNAV RWY 6, Orig

Green Bay, WI, Austin Straubel Intl, RNAV RWY 36, Orig

* * * Effective October 5, 2000

Fort Smith, AR, Fort Smith Muni, VOR OR TACAN OR GPS RWY 25, Amdt 20B

Fort Smith, AR, Fort Smith Muni, NDB RWY 25, Amdt 24A

Little Rock, AR, Adams Field, GPS RWY 4L, Orig-A

Little Rock, AR, Adams Field, GPS RWY 4R, Orig-A

Little Rock, AR, Adams Field, GPS RWY 22L, Orig-A

Topeka, KS, Forbes Field, VOR/DME RNAV RWY 13, Amdt 4A

Point Lookout, MO, M. Graham Clark, NDB RWY 29, Amdt 7A

Point Lookout, MO, M. Graham Clark, VOR/DME RNAV OR GPS RWY 29, Amdt 2B

Point Lookout, MO, M. Graham Clark, GPS RWY 11, Orig-B

Grand Island, NE, Central Nebraska Regional, LOC/DME BC RWY 17, Amdt 9B

Lincoln, NE, Lincoln Muni, VOR OR GPS RWY 17L, Amdt 6C

Lincoln, NE, Lincoln Muni, GPS RWY 14, Orig-A

McCook, NE, McCook Muni, VOR OR GPS RWY 21, Amdt 4C

Sidney, NE, Sidney Muni, GPS RWY 30, Orig-B

Omaha, NE, Eppley Airfield, NDB OR GPS RWY 14R, Amdt 24A

Oklahoma City, OK, Will Rogers World, NDB RWY 17R, Amdt 24A

Oklahoma City, OK, Will Rogers World, NDB RWY 35R, Amdt 5B

Victoria, TX, Victoria Regional, NDB RWY 12L, Amdt 4A

Waco, TX, McGregor Muni, GPS RWY 17, Orig-A

[FR Doc. 00-13833 Filed 6-1-00; 8:45 am]

BILLING CODE 4910-13-M